DEPARTMENT OF ENERGY

Federal Energy Regulatory Commission

[Project No. 7186-054]

Missisquoi, LLC; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 7186.

c. Date Filed: September 30, 2022.

d. Applicant: Missisquoi, LLC (Missisquoi).

e. Name of Project: Sheldon Springs Hydroelectric Project.

f. Location: On the Missisquoi River in Franklin County, Vermont.

g. Filed Pursuant to: Federal Power Act, 16 U.S.C. 791(a)-825(r).

h. Applicant Contact: Kevin Webb, Licensing Manager, Missisquoi, LLC, 670 N Commercial St., Suite 204, Manchester, NH 03101; telephone at (978) 935-6039; email at kwebb@patriothydro.com.

i. FERC Contact: Arash Barsari, Project Coordinator, Great Lakes Branch, Division of Hydropower Licensing; telephone at (202) 502-6207; email at Arash.JalaliBarsari@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Sheldon Springs Hydroelectric Project (P-7186-054).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The project consists of an Ambursen-type buttress dam that includes: (1) a 21-foot-long section that includes a debris sluiceway; and (2) a 262-foot-long spillway section that includes a 10-foot-long intake structure with a trashrack with 2-inch clear bar spacing and 2-foot-high flashboards that have a crest elevation of 328.8 feet National Geodetic Vertical Datum of 1929 (NGVD 29). The dam creates an impoundment with a surface area of 175 acres at an elevation of 328.8 feet NGVD 29.

Water is conveyed from the impoundment to a 54.5-foot-wide intake structure that is located on western shoreline of the impoundment, approximately 200 feet upstream of the dam. The intake structure includes a trashrack with 3-inch clear bar spacing. From the intake structure, water is conveyed to a 1,750-foot-long penstock and two 76-foot-long penstocks. From the penstocks, water is conveyed to a 72-foot-long, 74-foot-wide powerhouse (Main Powerhouse) that contains two 10.25-megawatt (MW) vertical Kaplan turbine-generators (Units 1 and 2), for a total installed capacity of 20.5 MW. The 1,750-foot-long penstock includes a 50-foot-diameter surge tank that provides pressure control for Units 1 and 2. Water is discharged from the Main Powerhouse to a 125-foot-long tailrace.

Water is also conveyed from the impoundment to an approximately 44-foot-wide intake structure that is located on the western shoreline of the impoundment, approximately 130 feet upstream of the dam (Upper Canal Gatehouse). The gatehouse includes four 6-foot-wide gates, a 4-foot-wide gate, and a trashrack with 6-inch clear bar spacing. From the gatehouse, water flow through an approximately 750-foot-long, 50-foot-wide canal (Mill Canal) that includes a 50-foot-wide auxiliary spillway. From the canal, water flows to an intake structure that includes 9.6-foot-wide and 13-foot-wide gates with trashracks with 1.5-inch clear bar spacing (Lower Canal Gatehouse). The 9.6-foot-wide gate conveys water to a 396-foot-long penstock and a 1-MW Francis turbine-generator (Unit 3) located in the non-project WestRock Mill Building (South Mill Powerhouse). The 13-foot-wide gate conveys water to a 140-foot-long penstock and two 1.65-MW Francis turbine-generators (Units 4 and 5) located in the non-project WestRock Mill Building (Grinder Room Powerhouse), for a total installed capacity of 3.3 MW. Water is discharged from the South Mill Powerhouse to a 50-foot-long tailrace, and discharged from the Grinder Room Powerhouse to a 100-foot-long tailrace.

From the impoundment, water is also conveyed through the 10-foot-long intake structure in the spillway to a 0.165-MW Kaplan turbine-generator (Unit 6), which discharges immediately downstream of the dam. The project creates an approximately 4,700-foot-long bypassed reach of the Missisquoi River.

Electricity generated at the powerhouses is transmitted to the electric grid via two 4.16/46-kilovolt (kV) step-up transformers, an 890-foot-long, 46-kV transmission line, and a 390-foot-long, 46-kV transmission line.

Project recreation facilities include: (1) a canoe take-out site approximately 2,200 feet upstream of the dam on the northern shoreline of the impoundment; (2) a picnic site with three picnic tables, a seasonal restroom, an informational kiosk, and a parking area immediately downstream of the dam on the western bank of the bypassed reach; (3) a whitewater boating put-in site approximately 400 feet downstream of the dam on the western bank of the bypassed reach; (4) a picnic site with a picnic table and a fire pit approximately 1,000 feet downstream of the dam on the southern bank of the bypassed reach; (5) a whitewater take-out site approximately 300 feet upstream of the tailrace of the Grinder Room Powerhouse, on the east bank of the bypassed reach; and (6) a canoe put-in/take-out site adjacent to the Main Powerhouse tailrace, on the east bank of the bypassed reach.

The minimum and maximum hydraulic capacities of the Main Powerhouse are 300 and 2,612 cubic feet per second (cfs), respectively. The minimum and maximum hydraulic capacities of the South Mill Powerhouse are 112 and 260 cfs, respectively. The minimum and maximum hydraulic capacities of the Grinder Room Powerhouse are 160 and 400 cfs, respectively. Unit 6 is only capable of operating at 70 cfs. The average annual energy production of the project from 2010 through 2020 was 69,277 megawatt-hours.

Missisquoi states that it voluntarily operates the project in a run-of-river mode, such that outflow from the project approximates inflow. For the purpose of protecting aquatic resources, the current license requires Missisquoi to release: (1) a minimum flow of 70 cfs or inflow, whichever is less, to the bypassed reach; (2) a minimum flow of 270 cfs or inflow, whichever is less, as measured immediately below the tailrace of the South Mill Powerhouse; and (3) a minimum flow of 285 cfs or inflow, whichever is less, as measured immediately below the tailrace of the Main Powerhouse.

The current license incorporated a settlement agreement that requires Missisquoi to: (1) provide boat access and take-out facilities below the dam and upstream of the Main Powerhouse tailrace, respectively; (2) provide a 24-hour telephone message service regarding flow conditions at the dam; (3) cooperate with paddling groups to determine the optimum flows for boats, and provide the optimum flows for a maximum of 6 scheduled weekend days per year up to a maximum of 200,000,000 cubic feet of whitewater releases each year; and (4) allow year-round access for paddlers regardless of whether whitewater flows are being released.

Missisquoi proposes to remove a net total of 39.45 acres from the current project boundary, including but not limited to revising the project boundary around the impoundment to follow a contour elevation of 328.86 feet NGVD 29 (corresponding to the crest elevation of the flashboards plus 0.75 inch of spill over the flashboards).

Missisquoi proposes to decommission the following facilities: (1) 13-foot wide gate located in the Lower Canal Gatehouse; (2) 140-foot-long penstock; (3) Grinder Room Powerhouse, including Units 4 and 5; and (4) 100-foot-long tailrace.

Missisquoi also proposes to: (1) continue operating the project in a run-of-river mode; (2) continue releasing a minimum flow of 70 cfs or inflow, whichever is less, from the dam to the upper bypassed reach; (3) release a minimum flow of 285 cfs or inflow, whichever is less, downstream of the South Mill Powerhouse tailrace to the lower bypassed reach; (4) implement an impoundment refill procedure, in the event of a drawdown of the impoundment, whereby 90% of inflow is passed downstream and 10% of inflow is used to refill the impoundment; (5) release approximately 13 cfs or inflow, whichever is less, over the spillway flashboard crest to provide a 0.75-inch deep flow over the dam for aesthetics, from 7:00 a.m. to 8:00 p.m. from May 1 to October 31; (6) develop an operation compliance monitoring plan; (7) maintain a 400-foot-long section of the canoe portage route, from the canoe take-out site to Shawville Road as a project recreation facility; (8) remount the sign upstream of the boater exclusion cable, which says “Danger Dam Ahead—Portage Here,” to be more visible from the river; (9) install and maintain a two-car parking area along Heather Lane approximately 400 feet southeast of the Main Powerhouse for the canoe put-in/take-out site adjacent to the Main Powerhouse tailrace; (10) improve the existing whitewater put-in site by rearranging existing boulders to provide a stepped approach to the river in coordination with Vermont Division of Historic Preservation; (11) relocate the existing whitewater take-out site to a more gently sloped take-out immediately downstream of the existing location; (12) release up to six whitewater flows from the project dam in consultation with American Whitewater and Vermont Agency of Natural Resources; (13) ramp up and ramp down generation flows by 500 cfs per hour when providing whitewater flows; and (14) implement erosion control measures to protect cultural resources.

m. A copy of the application can be viewed on the Commission's website at https://www.ferc.gov using the “eLibrary” link. Enter the docket number excluding the last three digits in the docket number field to access the document (i.e., P-7186). For assistance, please contact FERC Online Support (see item j above).

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members, and others access publicly available information and navigate Commission processes. For public inquiries and assistance with making filings such as interventions, comments, or requests for rehearing, the public is encouraged to contact OPP at (202) 502-6595 or OPP@ferc.gov.

You may also register online at https://ferconline.ferc.gov/FERCOnline.aspx to be notified via email of new filings and issuances related to this or other pending projects. For assistance, please contact FERC Online Support (see item j above).

o. The applicant must file no later than 60 days following the date of issuance of this notice: (1) a copy of the water quality certification; (2) a copy of the request for certification, including proof of the date on which the certifying agency received the request; or (3) evidence of waiver of water quality certification.

p. Procedural Schedule: The application will be processed according to the following schedule. Revisions to the schedule will be made as appropriate.

Milestone | Target date
Filing of Comments, Recommendations, Terms and Conditions, and Prescriptions | May 2025.
Filing of Reply Comments | June 2025.

q. Final amendments to the application must be filed with the Commission no later than 30 days from the issuance date of this notice.

Dated: March 4, 2025.
Debbie-Anne A. Reese,
Secretary.

[FR Doc. 2025-03780 Filed 3-7-25; 8:45 am]

BILLING CODE 6717-01-P